INTERNATIONAL TRADE COMMISSION

[Investigation No. 731-TA-1593 (Final)]

Certain Freight Rail Couplers and Parts Thereof From Mexico

Determination

On the basis of the record ¹ developed in the subject investigation, the United States International Trade Commission (“Commission”) determines, pursuant to the Tariff Act of 1930 (“the Act”), that an industry in the United States is materially injured by reason of imports of certain freight rail couplers and parts thereof from Mexico, provided for in subheadings 8607.30.10 and 7326.90.86 of the Harmonized Tariff Schedule of the United States, that have been found by the U.S. Department of Commerce (“Commerce”) to be sold in the United States at less than fair value (“LTFV”).² ³

¹ The record is defined in § 207.2(f) of the Commission's Rules of Practice and Procedure (19 CFR 207.2(f)).

² 88 FR 65153 (September 21, 2023).

³ Chairman David S. Johanson dissenting.

Background

The Commission instituted investigations effective September 28, 2022, following receipt of petitions filed with the Commission and Commerce by the Coalition of Freight Coupler Producers, consisting of McConway & Torley LLC, Pittsburgh, Pennsylvania, and the United Steel, Paper and Forestry, Rubber, Manufacturing, Energy, Allied Industrial and Service Workers International Union, AFL‐CIO, CLC. The final phase of the investigations was scheduled by the Commission following notification of preliminary determinations by Commerce that imports of FRCs from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on March 15, 2023 (88 FR 16031). The Commission conducted its hearing on May 18, 2023. All persons who requested the opportunity were permitted to participate.

The investigation schedules became staggered when Commerce did not align its antidumping and countervailing duty investigations for China with its antidumping duty investigation for Mexico, and reached earlier final antidumping and countervailing duty determinations for China. On July 3, 2023, the Commission issued final affirmative determinations in its antidumping and countervailing duty investigations of certain freight rail couplers and parts thereof from China (88 FR 43398, July 7, 2023). Following notification of a final determination by Commerce that imports of certain freight rail couplers and parts thereof from Mexico were being sold at LTFV within the meaning of section 735(a) of the Act (19 U.S.C. 1673d(a)), notice of the supplemental scheduling of the final phase of the Commission's antidumping duty investigation was given by posting copies of the notice in the Office of the Secretary, U.S. International Trade Commission, Washington, DC, and by publishing the notice in the Federal Register of October 2, 2023 (88 FR 67812).

The Commission made this determination pursuant to § 735(b) of the Act (19 U.S.C. 1673d(b)). It completed and filed its determination in this investigation on November 6, 2023. The views of the Commission are contained in USITC Publication 5470 (November 2023), entitled Certain Freight Rail Couplers and Parts Thereof from Mexico: Investigation No. 731-TA-1593 (Final).

By order of the Commission.
Issued: November 6, 2023.
Lisa Barton,
Secretary to the Commission.

[FR Doc. 2023-24881 Filed 11-9-23; 8:45 am]

BILLING CODE 7020-02-P